DEPARTMENT OF HOMELAND SECURITY

Coast Guard

[USCG-2006-25560]

Head and Gut Fleet; Alternate Standards for Fish Processing Vessels

AGENCY: Coast Guard, DHS.

ACTION: Notice of availability.

SUMMARY: The Coast Guard announces the availability of a policy letter detailing the Coast Guard's determination that “head and gut fleet” vessels constitute fish processing vessels for regulatory purposes. For vessels that, because of their age, cannot comply with certain regulatory requirements, an exemption from those requirements will be granted if the vessel owner proposes an acceptable alternative that provides a level of safety that is equivalent to the current regulations.

FOR FURTHER INFORMATION CONTACT: If you have questions on this notice, contact Mr. Michael Rosecrans, Chief, Fishing Vessel Safety Division, Commandant (G-PCV-3), telephone 202-372-1245, or by e-mail at MRosecrans@comdt.uscg.mil. If you have questions on viewing or submitting material to the docket, call Ms. Renee V. Wright, Program Manager, Docket Operations, telephone 202-493-0402.

SUPPLEMENTARY INFORMATION:

Background and Purpose

In the process of investigating the loss of the fishing vessels GALAXY and ARCTIC ROSE, the Coast Guard became aware of a class of approximately 65 vessels known as the “head and gut fleet.” This fleet involves two basic vessel types, freezer trawlers and freezer longliners. These vessels operate in the Gulf of Alaska and the Bering Sea/Aleutian Island fisheries. They catch fish and perform a number of operations, including freezing and packaging the catch for later distribution to a number of foreign and domestic markets.

Some of the operations conducted on board exceed the operations permitted for fishing vessels. Title 46 U.S. Code 2101(11b) defines a “fish processing vessel” as “a vessel that commercially prepares fish or fish products other than by gutting, decapitating, gilling, skinning, shucking, icing, freezing or brine chilling.”

The Coast Guard has determined that the operations conducted on board this fleet of vessels qualify the vessels as fish processing vessels. Coast Guard regulations in 46 CFR 28.710 require a fishing processing vessel to be classed by the American Bureau of Shipping or a similarly qualified organization, and under 46 CFR 42.03-5, a fish processing vessel of a certain size must also obtain a Load Line Certificate.

Due to the age of the majority of the vessels in this fleet, they are ineligible to enter class with the American Bureau of Shipping or a similarly qualified organization. As a result, the Coast Guard has developed a policy to address safety concerns by permitting exemptions from the aforementioned regulations, as authorized by 46 CFR 28.60, provided the owner of a vessel proposes alternatives to the required regulations that provide a level of safety that is equivalent to the current regulations.

This decision is documented in G-PCV Policy Letter 06-03. It may be viewed on-line at http://www.uscg.mil/hq/g-m/moc/docs.htm.

Dated: August 17, 2006.
Howard L. Hime,
Acting Director of National and International Standards, Assistant Commandant for Prevention.

[FR Doc. E6-13902 Filed 8-21-06; 8:45 am]

BILLING CODE 4910-15-P